DEPARTMENT OF DEFENSE

Office of the Secretary

[Transmittal No. 25-11]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-11, Policy Justification, and Sensitivity of Technology.

Dated: January 7, 2026.
Stephanie J. Bost,
Alternate OSD Federal Register Liaison Officer, Department of Defense.

BILLING CODE 6001-FR-P

BILLING CODE 6001-FR-C

Transmittal No. 25-11

Notice of Proposed Issuance of Letter of Offer Pursuant to Section 36(b)(1) of the Arms Export Control Act, as amended

(i) Prospective Purchaser: Government of the Philippines

(ii) Total Estimated Value:

Major Defense Equipment * | $2.73 billion
Other | $2.85 billion
TOTAL | $5.58 billion

Funding Source: National Funds

(iii) Description and Quantity or Quantities of Articles or Services under Consideration for Purchase:

Major Defense Equipment (MDE):

Sixteen (16) F-16 C Block 70/72 aircraft

Four (4) F-16 D Block 70/72 aircraft

Twenty-four (24) F110-GE-129D or F100-PW-229 engines (20 installed, 4 spares)

Twenty-two (22) Improved Programmable Display Generators (iPDGs) (20 installed, 2 spares)

Twenty-two (22) AN/APG-83 Active Electronically Scanned Array (AESA) Scalable Agile Beam Radars (SABR) (20 installed, 2 spares)

Twenty-two (22) Modular Mission Computers 7000AH (or available mission computer) (20 installed, 2 spares)

Twenty-two (22) Embedded Global Positioning System (GPS) Inertial Navigation Systems (INS) (EGI) with Selective Availability Anti-Spoofing Module (SAASM) or M-Code capability and Precise Positioning Service (PPS) (20 installed, 2 spares)

Eighty-eight (88) LAU-129 guided missile launchers

Twenty-two (22) M61A1 anti-aircraft guns (20 installed, 2 spares)

Twelve (12) AN/AAQ-33 Sniper Advanced Targeting Pods (ATP)

Twenty-four (24) Multifunctional Information Distribution System-Joint Tactical Radio Systems (MIDS-JTRS)

One hundred twelve (112) Advanced Medium Range Air-to-Air Missiles (AMRAAMs) Air Intercept Missile (AIM)120C-8 or equivalent missiles

Four (4) AMRAAM guidance sections

Thirty-six (36) Guided Bomb Unit (GBU)-39/B Small Diameter Bombs Increment 1 (SDB-1)

Two (2) GBU-39 (T-1)/B SDB-1 Guided Test Vehicles (GTV)

Forty (40) AIM-9X Block II Sidewinder missiles

Thirty-two (32) AIM-9X Block II Sidewinder Captive Air Training Missiles (CATMs)

Four (4) AIM-9X Block II Sidewinder guidance units

Three (3) AIM-9X Block II Captive Air Training Missile (CATM) guidance units

Sixty (60) MK-82 500-lb general purpose bombs

Sixty (60) MK-84 2,000-lb general purpose bombs

Thirty (30) Joint Direct Attack Munition (JDAM) KMU-572 tail kits for GBU-38 or Laser JDAM GBU-54

Sixty (60) FMU-152 fuze systems

Thirty (30) MAU-210 Enhanced computer control groups (ECCG) for GBU-50 Enhanced Paveway II (EP II)

Thirty-two (32) MXU-651 air foil groups (AFG) for GBU-50 EP II

Non-Major Defense Equipment:

The following non-MDE items will also be included: AN/ALQ-254 Viper Shield (VS) electronic warfare (EW) or equivalent systems; AMRAAM CATMs; AIM-9X Sidewinder training missiles and active optical target detectors (AOTD); Infrared Search and Track (IRST) systems; Air Combat Maneuvering Instrument (ACMI) range systems; FMU-139 Joint Programmable Fuzes (JPFs); missile containers; AN/ARC-238 radios; AN/APX-127 or equivalent Advanced Identification Friend or Foe (AIFF) Combined Interrogator Transponders (CIT) with Mode 5; KY-58 and KIV-78 cryptographic devices; AN/PYQ-10 Simple Key Loaders (SKLs); KGV-250X cryptographic devices; Scorpion Hybrid Optical-based Inertial Trackers (HObIT) or Joint Helmet Mounted Cueing Systems II (JHMCS II) helmet mounted displays; night vision devices (NVDs); spare image intensifier tubes; AN/ALE-47 Airborne Countermeasures Dispenser Systems (CMDS); AN/ALE-47 countermeasure processors; AN/ALE-47 sequencer switching units; AN/ALE-47 Control Display Units (CDUs); precision navigation; Joint Mission Planning Systems (JMPS); GPS Antenna System (GAS-1) antenna electronics; Sniper pod pylons; ADU-890 and ADU-891 adapter units, LAU-117 and LAU-88 Maverick launchers, impulse cartridges, chaff, flares, ammunition, and other bomb components; BRU-57 bomb racks; BRU-61 munitions carriage assemblies; MAU-12 bomb racks and TER-9A triple ejection racks; Common Munitions Built-in-Test (BIT) Reprogramming Equipment (CMBRE); Rackmount Improved Avionics Intermediate Shop (RIAIS); Cartridge Actuated Devices/Propellant Actuated Devices (CAD/PAD); targeting systems; aircraft refurbishment after maintenance training; spare and repair parts, consumables and accessories; repair and return support; aircraft, engine, ground, and pilot life support equipment; classified and unclassified computer program identification number (CPIN) systems; pylons, launcher adapters, weapon interfaces, and bomb and ejection racks; fuel tanks; Precision Measurement Equipment Laboratory (PMEL) and calibration support; National Geospatial-Intelligence Agency (NGA) maps and mapping data; ferry and fuel support; classified and unclassified software and software support; classified and unclassified publications, manuals, and technical documentation; facilities and construction support; simulators and training devices; personnel training and training equipment; studies and surveys; U.S. Government and contractor engineering, technical, and logistics support services; and other related elements of logistics and program support.

(iv) Military Department: Air Force (PH-D-SAC); Navy (PH-P-AAB, PH-P-AAC)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: April 1, 2025

* as defined in Section 47(6) of the Arms Export Control

POLICY JUSTIFICATION

Government of the Philippines—F-16 Aircraft

The Government of the Philippines has requested to buy sixteen (16) F-16 C Block 70/72 aircraft; four (4) F-16 D Block 70/72 aircraft; twenty-four (24) F110-GE-129D or F100-PW-229 Engines (20 installed, 4 spares); twenty-two (22) Improved Programmable Display Generators (iPDG) (20 installed, 2 spares); twenty-two (22) AN/APG-83 Active Electronically Scanned Array (AESA) Scalable Agile Beam Radars (SABR) (20 installed, 2 spares); twenty-two (22) Modular Mission Computers 7000AH (or available mission computer) (20 installed, 2 spares); twenty-two (22) Embedded Global Positioning System (GPS) Inertial Navigation Systems (INS) (EGI) with Selective Availability Anti-Spoofing Module (SAASM) or M-Code capability and Precise Positioning Service (PPS) (20 installed, 2 spares); eighty-eight (88) LAU-129 guided missile launchers; twenty-two (22) M61A1 anti-aircraft guns (20 installed, 2 spares); twelve (12) AN/AAQ-33 Sniper Advanced Targeting Pods (ATP); twenty-four (24) Multifunctional Information Distribution System-Joint Tactical Radio Systems (MIDS-JTRS); one hundred twelve (112) Advanced Medium Range Air-to-Air Missiles (AMRAAMs) Air Intercept Missile (AIM)-120C-8 or equivalent missiles; four (4) AMRAAM guidance sections; thirty-six (36) Guided Bomb Unit (GBU)-39/B Small Diameter Bombs Increment 1 (SDB-1); two (2) GBU-39(T-1)/B SDB-1 Guided Test Vehicles; forty (40) AIM-9X Block II Sidewinder missiles; thirty-two (32) AIM-9X Block II Sidewinder Captive Air Training Missiles (CATMs); four (4) AIM-9X Block II Sidewinder guidance units; three (3) AIM-9X Block II Captive Air Training Missile (CATM) guidance units; sixty (60) MK-82 500-lb general purpose bombs; sixty (60) MK-84 2,000-lb general purpose bombs; thirty (30) Joint Direct Attack Munition (JDAM) KMU-572 tail kits for GBU-38 or Laser JDAM GBU-54; sixty (60) FMU-152 fuze systems; thirty (30) MAU-210 enhanced computer control groups (ECCG) for GBU-50 Enhanced Paveway II (EP II); and thirty-two (32) MXU-651 air foil groups (AFG) for GBU-50 EP II. The following non-MDE items will also be included: AN/ALQ-254 Viper Shield (VS) electronic warfare (EW) or equivalent systems; AMRAAM CATMs; AIM-9X Sidewinder training missiles and active optical target detectors (AOTD); Infrared Search and Track (IRST) systems; Air Combat Maneuvering Instrument (ACMI) range systems; FMU-139 Joint Programmable Fuzes (JPFs); missile containers; AN/ARC-238 radios; AN/APX-127 or equivalent Advanced Identification Friend or Foe (AIFF) Combined Interrogator Transponders (CIT) with Mode 5; KY-58 and KIV-78 cryptographic devices; AN/PYQ-10 Simple Key Loaders (SKLs); KGV-250X cryptographic devices; Scorpion Hybrid Optical-based Inertial Trackers (HObIT) or Joint Helmet Mounted Cueing Systems II (JHMCS II) helmet mounted displays; night vision devices (NVDs); spare image intensifier tubes; AN/ALE-47 Airborne Countermeasures Dispenser Systems (CMDS); AN/ALE-47 countermeasure processors; AN/ALE-47 sequencer switching units; AN/ALE-47 Control Display Units (CDUs); precision navigation; Joint Mission Planning Systems (JMPS); GPS Antenna System (GAS-1) antenna electronics; Sniper pod pylons; ADU-890 and ADU-891 adapter units, LAU-117 and LAU-88 Maverick launchers, impulse cartridges, chaff, flares, ammunition, and other bomb components; BRU-57 bomb racks; BRU-61 munitions carriage assemblies; MAU-12 bomb racks and TER-9A triple ejection racks; Common Munitions Built-in-Test (BIT) Reprogramming Equipment (CMBRE); Rackmount Improved Avionics Intermediate Shop (RIAIS); Cartridge Actuated Devices/Propellant Actuated Devices (CAD/PAD); targeting systems; aircraft refurbishment after maintenance training; spare and repair parts, consumables and accessories; repair and return support; aircraft, engine, ground, and pilot life support equipment; classified and unclassified computer program identification number (CPIN) systems; pylons, launcher adapters, weapon interfaces, and bomb and ejection racks; fuel tanks; Precision Measurement Equipment Laboratory (PMEL) and calibration support; National Geospatial-Intelligence Agency (NGA) maps and mapping data; ferry and fuel support; classified and unclassified software and software support; classified and unclassified publications, manuals, and technical documentation; facilities and construction support; simulators and training devices; personnel training and training equipment; studies and surveys; U.S. Government and contractor engineering, technical, and logistics support services; and other related elements of logistics and program support. The estimated total cost is $5.58 billion.

This proposed sale will support the foreign policy and national security of the United States by helping to improve the security of a strategic partner that continues to be an important force for political stability, peace, and economic progress in Southeast Asia.

The proposed sale will enhance the Philippine Air Force's ability to conduct maritime domain awareness and close air support missions and enhance its suppression of enemy air defenses (SEAD) and aerial interdiction capabilities. This sale will also increase the ability of the Armed Forces of the Philippines to protect vital interests and territory, as well as expand interoperability with the U.S. forces. The Philippines will have no difficulty absorbing this equipment into its armed forces.

The proposed sale of this equipment and support will not alter the basic military balance in the region.

The principal contractor will be Lockheed Martin, located in Greenville, SC. At this time, the U.S. Government is not aware of any offset agreement proposed in connection with this potential sale. Any offset agreement will be defined in negotiations between the purchaser and the contractor.

Implementation of this proposed sale will not require the assignment of any additional U.S. Government or contractor representatives to the Philippines.

There will be no adverse impact on U.S. defense readiness as a result of this proposed sale.

Transmittal No. 25-11

Notice of Proposed Issuance of Letter of Offer Pursuant to Section 36(b)(1) of the Arms Export Control Act

Annex

Item No. vii

(vii) Sensitivity of Technology:

1. The F-16 Block 70 weapon system is a fourth generation single-engine supersonic all-weather multirole fighter aircraft and features advanced avionics and systems. It contains the General Electric F110-129D engine, AN/APG-83 radar, digital flight control system, embedded internal global navigation system, Joint Helmet Mounted Cueing Systems (JHMCS) II or Scorpion Hybrid Optical-based Inertial Tracker (HObIT) with night vision device compatibility, internal and external electronic warfare (EW) equipment, Advanced Identification Friend or Foe (AIFF), Link-16 datalink, operational flight trainer, and software computer systems.

a. General Electric F110-GE-129D and Pratt and Whitney F100-PW-229 engines are afterburning turbofan jet engines that power the F-16. Engine spare modules are kits made up of spare engine components including the following modules: inlet fan, core engine, fan drive turbine, augmenter duct and nozzle, and gear box.

b. The Modular Mission Computer (MMC) 7000AHC is the central aircraft computer of the F-16. It serves as the hub for all aircraft subsystems and avionics data transfer.

c. The Improved Programmable Display Generator (iPDG) and color multifunction displays utilize ruggedized commercial liquid crystal display technology designed to withstand the harsh environment found in modern fighter cockpits. The display generator is the fifth-generation graphics processor for the F-16. Through the use of state-of-the-art microprocessors and graphics engines, it provides orders of magnitude increases in throughput, memory, and graphics capabilities.

d. The APG-83 Scalable Agile Beam Radar (SABR) is an Active Electronically Scanned Array (AESA) radar upgrade for the F-16. It includes higher processor power, higher transmission power, more sensitive receiver electronics, and Synthetic Aperture Radar (SAR), which creates high-resolution ground maps from a greater distance than prior mechanically scanned array radars (e.g., APG-68). The upgrade features an increase in detection range of air targets, increases in processing speed and memory, as well as significant improvements in all modes.

e. The Embedded Global Positioning System (GPS)/Inertial Navigation System (INS) (EGI) with Selective Availability Anti-Spoofing Module (SAASM)—or M-Code receiver when available—and Precise Positioning Service (PPS) is a self-contained navigation system that provides the following: acceleration, velocity, position, attitude, platform azimuth, magnetic and true heading, altitude, body angular rates, time tags, and coordinated universal time (UTC) synchronized time. SAASM or M-Code enables the GPS receiver access to the encrypted P (Y or M) signal, providing protection against active spoofing attacks.

f. The integrated EW suite provides passive radar warning, wide spectrum radio frequency jamming, and control and management of the entire EW system. This system is anticipated to be internal to the aircraft, although mounted pod variants are used in certain circumstances.

g. AIFF Combined Interrogator Transponder (CIT) is a system capable of transmitting and interrogating Mode 5. Mode 4 and Mode 5 anti-jam performance specifications and data, software source code, algorithms, and tempest plans or reports will not be offered, released discussed, or demonstrated.

h. Multifunction Information Distribution System (MIDS) Joint Tactical Radio System (JTRS) is a four-channel software programmable radio for Link-16 digital voice communications and datalink, Tactical Air Navigation (TACAN), and advanced waveforms. Link-16 is a command, control, communications, and intelligence (C3I) system incorporating high-capacity, jam-resistant digital communication links for exchange of near real-time tactical information, including both data and voice, among air, ground, and sea elements.

i. The Infrared Search and Track System (IRST) is a high resolution, passive, infrared sensor system that searches for, detects, and tracks threats with infrared signatures at long ranges within its field of regard. It functions without emitting any radiation of its own and enables aircrews to detect adversaries before those adversaries see or sense them.

2. The LAU-129 guided missile launcher is capable of launching the Air Intercept Missile (AIM)-9 family of missiles or AIM-120 Advanced Medium Range Air-to-Air Missile (AMRAAM). The LAU-129 launcher provides the mechanical and electrical interface between the missile and aircraft.

3. The M61 Vulcan Cannon is a six-barreled automatic cannon chambered in 20x120mm with a cyclic rate of fire from 2,500-6,000 shots per minute. This weapon is a hydraulically powered air-cooled Gatling gun used to damage and destroy aerial targets, suppress and incapacitate personnel targets, and damage and destroy moving and stationary light material targets.

4. The AN/AAQ-33 Sniper Advanced Targeting Pod is a single, lightweight targeting pod for military aircraft that provides positive target identification, autonomous tracking, GPS coordinate generation, and precise weapons guidance from extended standoff ranges. It incorporates a high-definition mid-wave forward-looking infrared (FLIR) dual-mode laser, visible-light high-definition television (HDTV), laser spot tracker, video data link (VDL), and digital data recorder.

5. AN/ARC-238 radio with HAVE QUICK II is a voice communications radio system which employs cryptographic technology. Other waveforms may be included as needed.

6. The AN/APX-126/127 AIFF CIT is a system capable of transmitting and interrogating Mode 5. The AN/APX-127 is a form, fit, and function refresh of the AN/APX-126 and is the next generation to be produced.

7. The AN/ALE-47 Countermeasures Dispenser System (CMDS) provides an integrated, threat-adaptive, computer-controlled capability for dispensing chaff, flares, and active radio frequency expendables. The system is internally mounted and may be operated as a stand-alone system or may be integrated with other on-board EW and avionics systems. The AN/ALE-47 uses threat data received over the aircraft interfaces to assess the threat situation and determine a response. Expendable routines tailored to the immediate aircraft and threat environment may be dispensed using one of four operational modes.

8. The KY-58 is a secure voice module primarily used to encrypt radio communication to and from military aircraft and other tactical vehicles.

9. The KIV-78 is a cryptographic applique for Identification Friend or Foe. It can be loaded with Mode 5 classified elements.

10. The AN/PYQ-10 Simple Key Loader (SKL) is a handheld device used for securely receiving, storing, and transferring data between compatible cryptographic and communications equipment.

11. The Joint Mission Planning System (JMPS) is a multi-platform, computer-based mission planning system. Its modular suite of systems is tailored to user needs, allowing operators of various aircraft to install modules required for flight planning, weapons delivery planning, post-flight debrief, and operational integration.

12. JHMCS II and Scorpion HObIT are devices used in aircraft to project information to the pilot's eyes and to aid in tasks such as cueing weapons and aircraft sensors to air and ground targets. These systems project visual targeting and aircraft performance information on the back of the helmet visor, enabling the pilot to monitor information without interrupting field of view through the cockpit canopy. This provides improved capability in close combat targeting and engagement.

13. The AIM-9X Block II Sidewinder missile is a short-range air-to-air missile with a high off-boresight seeker, enhanced countermeasure rejection capability, low drag/high angle of attack airframe, and the ability to integrate a Helmet Mounted Cueing System (HMCS). This potential sale will include AIM-9X guidance sections, Active Optical Target Detectors (AOTD), training missiles, Captive Air Training Missiles (CATM), and CATM guidance units.

14. The AIM-120C-8 AMRAAM is a supersonic, air-launched, aerial intercept guided missile featuring digital technology and micro-miniature solid-state electronics. AMRAAM capabilities include look-down/shoot-down, multiple launches against multiple targets, resistance to electronic countermeasures, and interception of high and low-flying and maneuvering targets. This potential sale will include CATM, as well as AMRAAM guidance and control sections.

15. The GBU-39 Small Diameter Bomb Increment 1 (SDB-1) is a 250-lb GPS-aided, small autonomous, day or night, adverse weather, conventional, air-to-ground precision glide weapon with an inertial navigation system and able to strike fixed and stationary re-locatable non-hardened targets from standoff ranges. It is intended to provide aircraft with an ability to carry a high number of bombs. Aircraft are able to carry four SDBs in place of one 2,000-lb bomb.

16. Joint Direct-Attack Munitions (JDAM) consist of a bomb body paired with a warhead-specific tail kit containing a GPS/INS guidance capability that converts unguided free-fall bombs into accurate, adverse weather smart munitions. The JDAM weapon can be delivered from modest standoff ranges at high or low altitudes against a variety of land and surface targets during the day or night. The JDAM is capable of receiving target coordinates via preplanned mission data from the delivery aircraft, by onboard aircraft sensors (i.e., FLIR, radar, etc.) during captive carry, or from a third-party source via manual or automated aircrew cockpit entry.

a. The GBU-38 is a 500-lb JDAM consisting of a KMU-572 tail kit and MK-82 or BLU-111 500-lb bomb body.

b. The GBU-54 Laser Joint Direct Attack Munition (LJDAM) is a 500-lb JDAM which incorporates all the capabilities of the JDAM guidance tail kit and adds a precision laser guidance set. The LJDAM gives the weapon system an optional semi-active laser guidance in addition to the INS/GPS guidance. This provides the optional capability to strike moving targets. The GBU-54 consists of a DSU-38 laser guidance set, KMU-572 tail kit, and MK-82 or BLU-111 bomb body.

17. The MK-82 General Purpose (GP) bomb is a 500-lb, free-fall, unguided, low-drag weapon. The MK-82 is designed for soft, fragment-sensitive targets and is not intended for hard targets or penetrations.

18. The Enhanced Paveway II (EP II) Laser Guided Bomb (LGB) is a maneuverable, all-weather, free-fall weapon that guides to a spot of laser energy reflected off the target. The “enhanced” component is the addition of GPS-aided Inertial Navigation Systems (GAINS) guidance to the laser seeker. Laser designation for the LGB can be provided by a variety of laser target markers or designators. The EP II consists of an MAU-210 enhanced computer control group (ECCG) that is not warhead-specific and a warhead-specific air foil group (AFG) that attaches to the nose and tail of a GP bomb body.

a. (U) The GBU-50 is 2,000-lb GP bomb body fitted with the MAU 210 CCG and MXU-651 AFG to guide its laser designated target.

19. The MK-84 GP bomb is a 2,000-lb, free-fall, unguided, low-drag weapon. The MK-84 is designed for soft, fragment sensitive targets and is not intended for hard targets or penetrations.

20. The FMU-152 or FMU-139 Joint Programmable Fuze (JPF) is a multi-delay, multi-arm, and proximity sensor compatible with general purpose blast, frag, and hardened-target penetrator weapons. JPF settings are cockpit selectable in flight when used with numerous precision-guided weapons.

21. The highest level of classification of defense articles, components, and services included in this potential sale is SECRET.

22. If a technologically advanced adversary were to obtain knowledge of the specific hardware and software elements, the information could be used to develop countermeasures that might reduce system effectiveness or be used in the development of a system with similar or advanced capabilities.

23. A determination has been made that the Philippines can provide substantially the same degree of protection for the sensitive technology being released as the U.S. Government. This sale is necessary in furtherance of the U.S. foreign policy and national security objectives outlined in the Policy Justification.

24. All defense articles and services listed in this transmittal have been authorized for release and export to the Government of Philippines.

[FR Doc. 2026-00307 Filed 1-9-26; 8:45 am]

BILLING CODE 6001-FR-P